INTERNATIONAL TRADE COMMISSION

[Investigations Nos. 701-TA-456 and 731-TA-1151-1152 (Review)]

Citric Acid and Certain Citrate Salts From Canada and China; Notice of Commission Determination To Conduct Full Five-Year Reviews

AGENCY: United States International Trade Commission.

ACTION: Notice.

SUMMARY: The Commission hereby gives notice that it will proceed with full reviews pursuant to section 751(c) of the Tariff Act of 1930 (19 U.S.C. 1675(c)) to determine whether revocation of the antidumping and countervailing duty orders on citric acid and certain citrate salts from Canada and China would be likely to lead to continuation or recurrence of material injury within a reasonably foreseeable time. A schedule for these reviews will be established and announced at a later date. For further information concerning the conduct of these reviews and rules of general application, consult the Commission's Rules of Practice and Procedure, part 201, subparts A through E (19 CFR part 201), and part 207, subparts A, D, E, and F (19 CFR part 207).

DATES: Effective Date: July 7, 2014.

FOR FURTHER INFORMATION CONTACT: Christopher J. Cassise (202-708-5408), Office of Investigations, U.S. International Trade Commission, 500 E Street SW., Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its internet server (http://www.usitc.gov). The public record for these reviews may be viewed on the Commission's electronic docket (EDIS) at http://edis.usitc.gov.

SUPPLEMENTARY INFORMATION: On July 7, 2014, the Commission determined that it should proceed to full reviews in the subject five-year reviews pursuant to section 751(c) of the Act. With respect to the antidumping duty order on Canada, the Commission found that both the domestic group response and the respondent group response to its notice of institution (79 FR 18311, April 1, 2014) were adequate and determined to conduct a full review. With respect to the antidumping and countervailing duty orders on China, the Commission found that the domestic group response was adequate and that the respondent group response was inadequate, but that circumstances warranted full reviews. A record of the Commissioners' votes, the Commission's statement on adequacy, and any individual Commissioner's statement will be available from the Office of the Secretary and at the Commission's Web site.

Authority: These reviews are being conducted under authority of title VII of the Tariff Act of 1930; this notice is published pursuant to section 207.62 of the Commission's rules.

Issued: July 15, 2014.
By order of the Commission.
Lisa R. Barton,
Secretary to the Commission.

[FR Doc. 2014-16930 Filed 7-17-14; 8:45 am]

BILLING CODE 7020-02-P